DEPARTMENT OF THE INTERIOR

Bureau of Land Management

[LLCON04000-L12200000-PA0000]

Notice of Final Supplementary Rules for Public Lands in Colorado: McInnis Canyons National Conservation Area

AGENCY: Bureau of Land Management, Interior.

ACTION: Notice of Final Supplementary Rules.

SUMMARY: The Bureau of Land Management (BLM) Grand Junction Field Office (GJFO) is implementing supplementary rules to regulate conduct on public lands within the McInnis Canyons National Conservation Area (MCNCA). These supplementary rules are needed to implement decisions found in the McInnis Canyons National Conservation Area Resource Management Plan (RMP) to provide for the protection of persons, property, and public lands and resources.

DATES: These rules are effective August 2, 2010.

ADDRESSES: You may send inquiries to the Bureau of Land Management, 2815 H Road, Grand Junction, Colorado 81506; or e-mail comments to gjfo_webmail@blm.gov, Attn: “McInnis Canyons.”

FOR FURTHER INFORMATION CONTACT: Katie Stevens, McInnis Canyons National Conservation Area, (970) 244-3049, e-mail: Katie_A_Stevens@blm.gov.

SUPPLEMENTARY INFORMATION:

I. Background

These final supplementary rules apply to the MCNCA, approximately 122,300 acres of public lands which include the 75,550-acre Black Ridge Canyons Wilderness. The MCNCA, originally known as the Colorado Canyons National Conservation Area, was established by Public Law 106-353 on October 24, 2000, and was renamed in honor of Representative Scott McInnis by Public Law 108-400 on January 1, 2005.

The MCNCA is located 10 miles west of Grand Junction, Colorado, bordered by the Colorado National Monument to the east and the Colorado/Utah State line to the west. A small portion of the Black Ridge Canyons Wilderness (5,200 acres) extends into Grand County, Utah. The final supplementary rules will help the BLM achieve management objectives and implement decisions in the MCNCA RMP approved on October 24, 2004.

II. Discussion of Public Comments

The BLM GJFO proposed these supplementary rules in the Federal Register on July 13, 2009 (74 FR 33466). Public comments were accepted for a period of 60 days ending on September 11, 2009. The BLM received one comment from the Colorado Division of Wildlife (CDOW). The CDOW comment asked the BLM to consider revising the supplementary rule (#8) addressing areas designated as “day use.” The CDOW encouraged the BLM to modify the rule to allow hunters in these areas during periods of darkness. Pursuant to Colorado State law, hunters in the legitimate pursuit of game are authorized to hunt 30 minutes before sunrise and 30 minutes after sunset.

BLM Response: The BLM agrees with this additional clarification and changed the supplementary rule (#8) addressing “day use areas” to allow legitimate hunters in the pursuit of game to access “day use” areas during the time periods defined as “legal hunting hours” by the CDOW.

III. Discussion of the Supplementary Rules

In preparing the RMP, the BLM sought public review of four alternatives including its preferred alternative. The preferred alternative incorporated an adaptive management approach to allow for flexibility in management actions based on the results of resource and visitor monitoring.

The RMP includes specific management actions that restrict certain activities and define allowable uses. The final supplementary rules implement these management actions within the MCNCA. Many of the final supplementary rules apply to the entire area but some apply to specific areas within the MCNCA. The final supplementary rules are written to allow for the management flexibility that is available under the principles of adaptive management.

IV. Procedural Matters

Executive Order 12866, Regulatory Planning and Review

These supplementary rules are not significant regulatory actions and not subject to review by the Office of Management and Budget under Executive Order 12866. These supplementary rules will not have an annual effect of $100 million or more on the economy. They will not adversely affect in a material way the economy, productivity, competition, jobs, the environment, public health or safety, or State, local, or Tribal governments or communities. These supplementary rules will not create a serious inconsistency or otherwise interfere with an action taken or planned by another agency. The supplementary rules do not materially alter the budgetary effects of entitlements, grants, user fees, or loan programs or the rights or obligations of their recipients; and they do not raise novel legal or policy issues. These supplementary rules are merely rules of conduct for public use of a limited area of public lands.

Clarity of the Supplementary Rules

Executive Order 12866 requires each agency to write regulations that are simple and easy to understand. We invite your comments on how to make these final supplementary rules easier to understand, including answers to questions such as the following:

(1) Are the requirements in the final supplementary rules clearly state?

(2) Do the final supplementary rules contain technical language or jargon that interferes with their clarity?

(3) Does the format of the final supplementary rules (grouping and order of sections, use of headings, paragraphing, etc.) aid or reduce their clarity?

(4) Would the supplementary rules be easier to understand if they were divided into more (but shorter) sections?

(5) Is the description of the final supplementary rules in the SUPPLEMENTARY INFORMATION section of this preamble helpful to your understanding of the Final supplementary rules? How could this description be more helpful in making the Final supplementary rules easier to understand?

Please send any comments you have on the clarity of the supplementary rules to the address specified in the ADDRESSES section.

National Environmental Policy Act

In July 2004, the BLM completed an environmental impact statement (EIS) as part of the development of the Proposed RMP and Final EIS for the Colorado Canyons National Conservation Area (now McInnis Canyons National Conservation Area), which includes the Black Ridge Canyons Wilderness. During the National Environmental Policy Act process, proposed decisions were fully analyzed, including the substance of these supplementary rules. The pertinent analysis can be found in Chapter 2, Alternatives, of the RMP. The Record of Decision for the RMP was signed by the BLM Colorado State Director in October 2004. These final supplementary rules provide for implementation of the decisions in the RMP. The rationale for the decisions made in the plan is fully covered in the EIS. The EIS is available for review in the BLM administrative record at the address specified in the ADDRESSES section.

Regulatory Flexibility Act

Congress enacted the Regulatory Flexibility Act (RFA) of 1980, as amended (5 U.S.C. 601-612) to ensure that Government regulations do not unnecessarily or disproportionately burden small entities. The RFA requires a regulatory flexibility analysis if a rule would have a significant economic impact, either detrimental or beneficial, on a substantial number of small entities. These supplementary rules merely establish rules of conduct for public use of a limited area of public lands. Therefore, the BLM has determined under the RFA that the supplementary rules would not have a significant economic impact on a substantial number of small entities.

Small Business Regulatory Enforcement Fairness Act

These supplementary rules are not considered a “major rule” as defined under 5 U.S.C. 804(2). The supplementary rules are rules of conduct for public use of a limited area of public lands and do not affect commercial or business activities of any kind.

Unfunded Mandates Reform Act

These supplementary rules do not impose an unfunded mandate on State, local, or Tribal governments in the aggregate, or the private sector of more than $100 million per year; nor do they have a significant or unique effect on small governments. The rules have no effect on governmental or Tribal entities and would impose no requirements on any of these entities. The supplementary rules merely establish rules of conduct for public use of a limited selection of public lands and do not affect Tribal, commercial, or business activities of any kind. Therefore, the BLM is not required to prepare a statement containing the information required by the Unfunded Mandates Reform Act (2 U.S.C. 1531 et seq.).

Executive Order 12630, Governmental Actions and Interference With Constitutionally Protected Property Rights (Takings)

These supplementary rules do not have significant takings implications, nor are they capable of interfering with Constitutionally-protected property rights. The supplementary rules merely establish rules of conduct for public use of a limited area of public lands and do not affect anyone's property rights. Therefore, the BLM has determined that these rules will not cause a “taking” of private property or require preparation of a takings assessment under this Executive Order.

Executive Order 13132, Federalism

These supplementary rules will not have a substantial direct effect on the States, the relationship between the national government and the States, nor the distribution of power and responsibilities among the various levels of government. These supplementary rules do not come into conflict with any State law or regulation. Therefore, in accordance with Executive Order 13132, the BLM has determined that these supplementary rules do not have sufficient Federalism implications to warrant preparation of a Federalism Assessment.

Executive Order 12988, Civil Justice Reform

Under Executive Order 12988, the BLM has determined that these rules will not unduly burden the judicial system and that they meet the requirements of sections 3(a) and 3(b)(2) of the Order.

Executive Order 13175, Consultation and Coordination With Indian Tribal Governments

In accordance with Executive Order 13175, the BLM has found that these supplementary rules do not include policies that have Tribal implications. The supplementary rules do not affect land held for the benefit, nor impede the rights of Indians or Alaska Natives.

Executive Order 13211, Actions Concerning Regulations That Significantly Affect Energy Supply, Distribution, or Use

These final supplementary rules do not comprise a significant energy action. The rules will not have an adverse effect on energy supplies, production, or consumption. The rules would have no conceivable connection with energy policy.

Executive Order 13352, Facilitation of Cooperative Conservation

In accordance with Executive Order 13352, the BLM has determined that these supplementary rules will not impede facilitating cooperative conservation; will take appropriate account of and consider the interests of persons with ownership or other legally recognized interests in land or other natural resources; properly accommodate local participation in the Federal decision-making process; and provide that the programs, projects, and activities are consistent with protecting public health and safety. These rules merely establish rules of conduct for recreational use of certain public lands.

Paperwork Reduction Act

These supplementary rules do not directly provide for any information collection that the Office of Management and Budget must approve under the Paperwork Reduction Act, 44 U.S.C. 3501 et seq. Any information collection that may result from Federal criminal investigations or prosecution conducted under these proposed supplementary rules is exempt from the provisions of the Paperwork Reduction Act of 1995, as provided at 44 U.S.C. 3518(c)(1).

Information Quality Act

In developing these supplementary rules, the BLM did not conduct or use a study, experiment or survey requiring peer review under the Information Quality Act (Section 515 of Pub. L. 106-554).

Author

The principal author of this supplementary rule is Eric Boik, Law Enforcement Officer, Bureau of Land Management Colorado, Grand Junction Field Office, Grand Junction, CO.

For the reasons stated in the preamble, and under the authorities for supplementary rules found at 43 U.S.C. 1740 and 43 CFR 8365.1-6, the Colorado State Director, Bureau of Land Management, issues supplementary rules for public lands managed by the BLM in Colorado, to read as follows:

Final Supplementary Rules for Public Lands in Colorado: McInnis Canyons National Conservation Area

These supplementary rules apply, except as specifically exempted, to activities within the McInnis Canyons National Conservation Area (MCNCA), which is comprised of public lands administered by the Bureau of Land Management (BLM) near Grand Junction, Colorado. These supplementary rules are in effect on a year-round basis and will remain in effect until modified by the authorized officer.

Prohibited Acts

1. You must not camp in sites or areas not designated as open to camping by a BLM sign or map.

2. You must not start or maintain a fire in sites or areas not designated as open for such use by a BLM sign or map.

3. In areas designated as open for starting or maintaining a fire, any fire must be fully contained in a metal fire grate, fire pan, or other metal device to contain ashes. Mechanical stoves and other appliances that are fueled by gas, and equipped with a valve that allows the operator to control the flame, are among the devices that meet this requirement.

4. When starting or maintaining a fire outside of a developed recreation site, you must contain and completely remove fire ashes and debris from BLM land.

5. You must not cut, collect, or use live, dead, or down wood except in areas designated as open to such use by a BLM sign or map.

6. The hours of operation are sunrise to sunset in any area that is for day-use only as indicated by a BLM sign or map. You must not enter or remain in such an area after sunset or before sunrise. Licensed hunters in legitimate pursuit of game during the proper season may access and remain in day use-only areas during the time periods defined as legal hunting hours by the Colorado Division of Wildlife.

7. You must not park in areas not designated for parking by a BLM sign or map.

8. Exceeding group size limits, as indicated by a BLM sign or map, is prohibited.

9. Exceeding length of stay limits, as indicated by a BLM sign or map, is prohibited.

10. Individuals and/or groups must register and possess proof of registration as indicated by a BLM sign or map.

11. You must not use roads and/or trails by motorized or mechanized vehicle or equestrian or pedestrian travel except where designated as open to such use by a BLM sign or map.

12. You must not discharge a firearm of any kind, including those used for target shooting or paintball. Licensed hunters in legitimate pursuit of game during the proper season with appropriate firearms, as defined by the Colorado Division of Wildlife, are exempt from this rule.

13. You must not collect or disturb rocks, minerals, fossils, chipped rocks, arrowheads, or other paleontological, prehistoric or historical artifacts.

14. You must not enter an area that is designated as closed by a BLM sign or map.

15. You must remove and properly dispose of canine solid waste when and where indicated by a BLM sign or map.

16. You must not bring any dog into the MCNCA that is not controlled by visual, audible, or physical means.

17. You must not burn wood or other material containing nails, glass, or any metal.

18. You must dispose of solid human waste as indicated by a BLM sign or map.

Exemptions

The following persons are exempt from these supplementary rules:

A. Any Federal, State, local and/or military in the scope of their duties;

B. Members of any organized rescue or fire-fighting force in performance of an official duty;

C. Persons, agencies, municipalities, or companies holding an existing special-use permit inside the MCNCA and operating within the scope of their permit.

Penalties

Under the Taylor Grazing Act of 1934, 43 U.S.C. 315a, any willful violation of these supplementary rules on public lands within a grazing district shall be punishable by a fine of not more than $500.

Under Section 303(a) of the Federal Land Policy and Management Act of 1976, 43 U.S.C. 1733(a), and 43 CFR 8360.0-7, any person who violates any of these supplementary rules may be tried before a United States Magistrate and fined no more than $1,000, imprisoned for no more than 12 months, or both.

Such violations may also be subject to the enhanced fines provided for by 18 U.S.C. 3571.

Anna Marie Burden,
Acting State Director.

[FR Doc. 2010-16148 Filed 7-1-10; 8:45 am]

BILLING CODE 4310-JB-P